DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 13, 2009.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington DC or at http://fdms.gov.

This notice of receipt of applications for special permit is published in accordance with Part 107 of the Federal hazardous materials transportation law (49 U.S.C. 5117(b); 49 CFR 1.53(b)).

Issued in Washington, DC, on April 6, 2009.
Delmer F. Billings,
Director, Office of Hazardous Materials, Special Permits and Approvals.

Application No. | Docket No. | Applicant | Regulation(s) affected | Nature of special permits thereof
NEW SPECIAL PERMITS
14820-N |  | Department of Energy, Washington, DC | 49 CFR 173.302 | To authorize the one-time, one-way transportation in commerce of fifty-four (54) neutron detector tubes containing boron trifluoride a Division 2.3 material. (mode 1)
14827-N |  | Olin Corporation, Chlor Alkali Products, Cleveland, TN | 49 CFR 177.834 (i)(1), (2) and (3) | To authorize the use of video cameras and monitors to observe the loading and unloading operations meeting the definition of ”loading incidental to movement” or ”unloading incidental to movement” as those terms are defined in § 171.8 of the Hazardous Materials Regulations from a remote control station in place of personnel remaining within. (mode 1)
14828-N |  | Croman Corporation, White City, OR | 49 CFR 172.101 Column (9B), 172.204(c)(3), 173.27(b)(2) and (3), 175.3, 175.30 and 175.75 | To authorize the transportation in commerce of certain Division 1.3 explosives which exceed quantities authorized for transportation by cargo aircraft only. (mode 4)
14829-N |  | Reactives Management Corporation, Chesapeake, VA | 49 CFR 173.337 | To authorize the transportation in commerce of nitric oxide, compressed in alternative packaging by motor vehicle. (mode 1)
NEW SPECIAL PERMITS
14830-N |  | VIH Cougar helicopters, Inc., Bellingham, WA | 49 CFR 172.101 HMT Column (9B) 172.200, 172.300, 172.400 | To authorize the transportation of certain forbidden explosives and other hazardous materials by helicopter in remote areas of the U.S. for seismic exploration without being subject to hazard communication requirements and quantity limitations. (mode 4)
14831-N |  | Gasitech Industries—Gas—Handelsgesellschaft mbH | 49 CFR 180.209(a) and 180.209(b) | To authorize the ultrasonic examination of DOT-3A and DOT-3AA specification cylinders for use in transporting Division 2.1, 2.2 or 2.3 material. (modes 2, 3, 4, 5)
14832-N |  | Trinity Industries, Inc., Dallas, TX | 49 CFR 173.31, (e)(2)(iii) 173.3 14(c), 179.13(b) and 179.100-12(c) | To authorize the manufacture, marking, sale and use of DOT 105 and DOT 112 specification tank cars for use in transportation of hazardous materials that are toxic-by-inhalation with a welded manway protective housing and an increase to 286,000 pounds gross weight on rail. (mode 2)
14833-N |  | Takata-Petri AG | 49 CFR 173.301(a), 173.302a, 175.3 and 178.65(0(2) | To authorize the manufacture, marking, sale and use of non-DOT specification cylinders for use as components of safety systems. (modes 1, 2, 3, 4, 5)
NEW SPECIAL PERMITS
14834-N |  | Composite Technology Corporation | 49 CFR 173.302a and 180.205 | To authorize the manufacture, marking, sale, and use of non-DOT specification fully wrapped carbon-fiber reinforced aluminum lined cylinders. (modes 1, 2, 3, 4, 5)

[FR Doc. E9-8221 Filed 4-10-09; 8:45 am]

BILLING CODE 4909-60-M